DEPARTMENT OF COMMERCE

National Oceanic and Atmospheric Administration

[I.D. 051305E]

Endangered and Threatened Species; Take of Anadromous Fish

AGENCY: National Marine Fisheries Service (NMFS), National Oceanic and Atmospheric Administration (NOAA), Commerce.

ACTION: Application for a scientific research/enhancement permit.

SUMMARY: Notice is hereby given that NMFS has received a scientific research and enhancement permit application relating to Pacific salmon. Permit 1530 would be issued jointly to the Washington Department of Fish and Wildlife, Nez Perce Tribe through the Bureau of Indian Affairs, and the Idaho Department of Fish and Game (Applicants) to operate the adult fish trap at Lower Granite Dam. The proposed actions are intended to increase knowledge of species listed under the Endangered Species Act (ESA) and to help guide management and conservation efforts. It is also intended to facilitate collection of broodstock to supply an artificial propagation program designed to enhance the propagation and survival of threatened Snake River fall chinook salmon.

DATES: Comments or requests for a public hearing on the application must be received at the appropriate address or fax number (see ADDRESSES) no later than 5 p.m. Pacific daylight time on June 20, 2005.

ADDRESSES: Written comments on the application should be sent to Salmon Recovery Division, NMFS, 10095 W. Emerald, Boise, ID 83704. Comments may be submitted by e-mail. The mailbox address for providing e-mail comments is LGRtrap.nwr@noaa.gov. Include in the subject line of the e-mail comment the following identifier: Comments on trapping at Lower Granite Dam. Comments may also be submitted via facsimile (fax) to (208) 378-5614.

FOR FURTHER INFORMATION CONTACT: Herb Pollard, Boise, Idaho, at phone number: (208) 378-5614, e-mail: herbert.pollard@noaa.gov.

SUPPLEMENTARY INFORMATION:

Species Covered in This Notice

The following listed species and evolutionarily significant units (ESUs) are covered in this notice:

Chinook salmon (Oncorhynchus tshawytscha): threatened Snake River (SR) fall.

Steelhead (O. mykiss): threatened SR.

Scientific research and enhancement permits are issued in accordance with section 10(a)(1)(A) of the ESA (16 U.S.C. 1531 et seq.) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permit.

Anyone requesting a hearing on an application listed in this notice should set out the specific reasons why a hearing on that application would be appropriate (see ADDRESSES). The holding of such a hearing is at the discretion of the Assistant Administrator for Fisheries, NOAA.

Applications Received

Permit 1530

The Applicants are requesting a 5-year permit to take SR fall chinook salmon and SR steelhead during the course of operating an adult fish trap at Lower Granite Dam on the Columbia River.

The proposed action is designed to address two purposes. The trapping activity is intended to capture a random sample of Snake River fall chinook salmon and collect the necessary biological data and observations to statistically generate a “run reconstruction”, or description of composition of the entire fall chinook salmon migration, as it passes Lower Granite Dam, according to age, sex, and origin (hatchery or natural). The second purpose is to collect additional adult fall chinook salmon for broodstock needed to support enhancement actions at Lyons Ferry Hatchery and Nez Perce Tribal Hatchery. Incidental to the primary purposes, the program will help managers simultaneously monitor several ongoing activities in the basin (e.g., natural production of listed species and the operation of the Federal Columbia River hydropower system) as well as stray rates and population health for the two listed species.

To achieve its purposes, the project includes four objectives: First, to capture SR fall chinook salmon so that they may be used for mitigation, compensation, and natural production. Second, to remove hatchery-origin fall chinook originating from projects other than those in the Snake River Basin so that they do not spawn in the Snake River above Lower Granite Dam. Third, to facilitate research efforts including the capture of fish to measure the relative reproductive success of hatchery fish being used for natural supplementation and thereby monitor the success of that program. Fourth, to monitor the status of steelhead populations in the Snake River basin.

Fish species will benefit in several ways: by providing broodstock for Lyons Ferry Hatchery and Nez Perce Tribal Hatchery, the program will continue its efforts in directly increasing the abundance of the listed stocks. Removing salmon that stray from other hatchery programs will reduce adverse ecological and genetic interactions and preserve the listed stock. Information from the captured steelhead is essential to monitor the status and productivity of the listed populations, to help managers make decisions about how best to operate the hydropower system, and to gauge the effectiveness of a number of recovery efforts.

The fish would be captured at the Lower Granite Dam adult trap. Electronic controls direct fish passing through the ladder into a trap holding facility for small portions of each day. When not directed into the trap, most fish pass the ladder unimpeded. Trapped fish are anesthetized, examined, biological samples are taken, and the fish are either (1) returned to the ladder to continue their upstream migration (all of the steelhead and most of the chinook salmon), (2) selected for broodstock (in the case of a portion of the hatchery-origin and natural-origin chinook salmon), or (3) removed from the population (all hatchery-origin chinook salmon that are identified by tags or marks as strays from other hatcheries). Transport to one of the hatchery facilities of fish collected for broodstock occurs daily during peak run periods. Some natural-origin Snake River fall chinook salmon would be collected to integrate into the broodstock. Scale sampling may occur on-site prior to transport to the hatcheries. In addition, up to 250 more scale samples from natural origin fish are needed to provide an accurate description of run composition. Once sampled, fish not collected for broodstock are allowed to recover in small tanks and then returned to the fish ladder to continue their upstream migration.

This notice is provided pursuant to section 10(c) of the ESA. NMFS will evaluate the application, associated documents, and comments submitted to determine whether the application meets the requirements of section 10(a) of the ESA and Federal regulations. The final permit decisions will not be made until after the end of the 30-day comment period. NMFS will publish notice of its final action in the Federal Register.

Dated: May 17, 2005.
Phil Williams,
Chief, Endangered Species Division, Office of Protected Resources, National Marine Fisheries Service.

[FR Doc. 05-10129 Filed 5-19-05; 8:45 am]

BILLING CODE 3510-22-S